DEPARTMENT OF AGRICULTURE

Food Safety and Inspection Service

[Docket No. 05-025N]

Codex Alimentarius Commission: Fifth Session of the Codex ad hoc Intergovernmental Task Force on Foods Derived From Biotechnology

AGENCY: Office of the Under Secretary for Food Safety, USDA.

ACTION: Notice of public meeting, request for comments.

SUMMARY: The Office of the Under Secretary for Food Safety, United States Department of Agriculture (USDA), and the Food and Drug Administration (FDA), U.S. Department of Health and Human Services (HHS), are sponsoring a public meeting on August 30, 2005, to provide draft U.S. positions and receive public comments on agenda items that will be discussed at the Fifth Session of the Codex ad hoc Intergovernmental Task Force on Foods Derived from Biotechnology of the Codex Alimentarius Commission (Codex), which will be held in Chiba, Japan, September 19-23, 2005. The Under Secretary and FDA recognize the importance of providing interested parties the opportunity to comment on the agenda items that will be debated at this forthcoming Session of the FBT.

DATES: The public meeting is scheduled for Tuesday, August 30, 2005, from 1 p.m. to 4 p.m.

ADDRESSES: The public meeting will be held in Room 107A, Jamie Whitten Building, 1400 Independence Ave., SW., Washington, DC.

Documents related to the Fifth Session of the FBT will be accessible via the World Wide Web at the following address: http://www.codexalimentarius.net/current.asp.

FSIS invites interested persons to submit comments on this notice. Comments may be submitted by any of the following methods:

Mail, including floppy disks or CD-ROMs, and hand- or courier-delivered items: Send to the FSIS Docket Clerk, USDA, Food Safety and Inspection Service, 300 12th Street, SW., Room 102, Cotton Annex, Washington, DC 20730. All comments received must include the Agency name and docket number 05-025N. All comments submitted in response to this notice, will be available for public inspection in the FSIS Docket Room at the address listed above between 8:30 a.m. and 4:30 p.m., Monday through Friday. The comments also will be posted on the Agency's Web site at http://www.fsis.usda.gov/regulations/2005_Notices_Index/.

Participation by Conference Call: A call-in number has been arranged: 1-888-405-9176, participant code CODEX.

FOR FURTHER INFORMATION ABOUT THE FIFTH SESSION OF THE FBT CONTACT: U.S. Delegate, Bernice Slutsky, Special Assistant to the Secretary for Biotechnology, Office of the Secretary, USDA, 1400 Independence Ave., SW., Washington, DC 20250, Phone (202) 720-3631, Fax: (202) 720-6314, E-mail: Bernice.Slutsky@usda.gov.

FOR FURTHER INFORMATION ABOUT THE PUBLIC MEETING CONTACT: Ellen Matten, International Issues Analyst, U.S. Codex Office, Food Safety and Inspection Service, Room 4861, South Building, 1400 Independence Avenue, SW., Washington, DC 20250, Phone: (202) 205-7760, Fax: (202) 720-3157.

SUPPLEMENTARY INFORMATION:

Background

The Codex Alimentarius (Codex) was established in 1962 by two United Nations organizations, the Food and Agriculture Organization (FAO) and the World Health Organization (WHO). Codex is the major international organization for protecting the health and economic interests of consumers and encouraging fair international trade in food. Through adoption of food standards, codes of practice, and other guidelines developed by its committees, and by promoting their adoption and implementation by governments, Codex seeks to ensure that the world's food supply is sound, wholesome, free from adulteration, and correctly labeled. In the United States, USDA, FDA, and the Environmental Protection Agency manage and carry out U.S. Codex activities.

The Codex ad hoc Intergovernmental Task Force on Foods Derived from Biotechnology was established by the 23rd Session of the Codex Alimentarius Commission in 1999 to elaborate standards, guidelines, or other principles as relates to foods derived from biotechnology. The Task Force completed its mandates within its four year time frame and was dissolved by the 26th Session of the Commission. The 27th Session re-established the Task Force for another four year period. The Task Force is hosted by the government of Japan.

Issues to be Discussed at the Public Meeting

The following items on the agenda for the Fifth Session of FBT will be discussed during the public meeting:

• Matters referred to the Committee from other Codex bodies.

• Review of the Work by International Organizations on the Evaluation of the Safety and Nutrition Aspects of Foods Derived from Biotechnology.

• Consideration of the Elaboration of Standards, Guidelines or other Texts for Foods Derived from Biotechnology.

Each issue listed will be fully described in documents distributed, or to be distributed, by the Japanese Secretariat to the Meeting. Members of the public may access or request copies of these documents at: http://www.codexalimentarious.net/current.asp.

Public Meeting

At the August 30, 2005, public meeting, draft U.S. positions on these agenda items will be described, discussed, and attendees will have the opportunity to pose questions and offer comments. Written comments may be offered at the meeting or sent to the U.S. Delegate for the Fifth Session of FBT, Dr. Bernice Slutsky, (see FOR FURTHER INFORMATION ABOUT THE FIFTH SESSION OF THE FBT CONTACT). Written comments should state that they relate to activities of the Fifth Session of the FBT.

Additional Public Information

Public awareness of all segments of rulemaking and policy development is important. Consequently, in an effort to ensure that the public and, in particular, minorities, women, and persons with disabilities are aware of this notice, FSIS will announce it on-line through the FSIS Web page located at http://www.fsis.usda.gov/regulations/2005_Notices_Index/.

FSIS also will make copies of this Federal Register publication available through the FSIS Constituent Update, which is used to provide information regarding FSIS policies, procedures, regulations, Federal Register notices, FSIS public meetings, recalls, and other types of information that could affect or would be of interest to our constituents and stakeholders. The update is communicated via Listserv, a free electronic mail subscription service for industry, trade, and farm groups, consumer interest groups, allied health professionals, scientific professionals, and other individuals who have requested to be included. The update also is available on the FSIS Web page. Through Listserv and the Web page, FSIS is able to provide information to a much broader, more diverse audience.

In addition, FSIS offers an electronic mail subscription service which provides an automatic and customized notification when popular pages are updated, including Federal Register publications and related documents. This service is available at http://www.fsis.usda.gov/news_and_events/email_subscription/ and allows FSIS customers to sign up for subscription options across eight categories. Options range from recalls to export information to regulations, directives, and notices. Customers can add or delete subscriptions themselves and have the option to protect their accounts with passwords.

Done at Washington, DC on August 4, 2005.
F. Edward Scarbrough,
U.S. Manager for Codex Alimentarius.

[FR Doc. 05-15729 Filed 8-8-05; 8:45 am]

BILLING CODE 3410-DM-P